CONSUMER PRODUCT SAFETY COMMISSION

16 CFR Chapter II

[Docket No. CP-21-1]

Petition Requesting Rulemaking on Duster Aerosol Products

AGENCY: Consumer Product Safety Commission.

ACTION: Request for comment on petition for rulemaking.

SUMMARY: The Consumer Product Safety Commission (CPSC or Commission) has received a petition requesting that the Commission initiate rulemaking to adopt a safety standard for duster aerosol products. The Commission invites written comments concerning the petition.

DATES: Submit comments by August 30, 2021.

ADDRESSES: Submit comments, identified by Docket No. CP-21-1, by any of the following methods:

Electronic Submissions: Submit electronic comments to the Federal eRulemaking Portal at: https://www.regulations.gov. Follow the instructions for submitting comments. CPSC does not accept comments submitted by electronic mail (email), except through https://www.regulations.gov and as described below. CPSC encourages you to submit electronic comments by using the Federal eRulemaking Portal, as described above.

Mail/Hand Delivery/Courier Written Submissions: Submit comments by mail/hand delivery/courier to: Division of the Secretariat, Consumer Product Safety Commission, Room 820, 4330 East West Highway, Bethesda, MD 20814; telephone: (301) 504-7479. Alternatively, as a temporary option during the COVID-19 pandemic, you may email such submissions to: cpsc-os@cpsc.gov.

Instructions: All submissions must include the agency name and docket number for this notice. CPSC may post all comments without change, including any personal identifiers, contact information, or other personal information provided, to: https://www.regulations.gov. Do not submit electronically: Confidential business information, trade secret information, or other sensitive or protected information that you do not want to be available to the public. If you wish to submit such information, please submit it according to the instructions for mail/hand delivery/courier written submissions.

Docket: For access to the docket to read background documents or comments received, go to: https://www.regulations.gov, and insert the docket number, CP-21-1, into the “Search” box, and follow the prompts.

FOR FURTHER INFORMATION CONTACT: Alberta E. Mills, Division of the Secretariat, Consumer Product Safety Commission, 4330 East West Highway, Bethesda, MD 20814; telephone: 301-504-7479; email: amills@cpsc.gov.

SUPPLEMENTARY INFORMATION: On April 2, 2021, Families United Against Inhalant Abuse (FUAIA) (petitioner), submitted a petition requesting the Commission initiate rulemaking to adopt a mandatory CPSC safety standard to address the hazards associated with “duster” aerosol products used for cleaning electronics and other items and containing the chemical 1,1-Difluorethane, or any derivative thereof. The Commission's procedure for petitioning for rulemaking is described at 16 CFR part 1051.

The petitioner states that “duster” products are any hydrofluorocarbon propellant cleaner products intended for the purpose of cleaning electronic devices, photographic equipment, and any other items having areas where dust resides and is inaccessible by hand. The petitioner also states that such duster products contain hydrofluorocarbon propellant cleaner, such as 1,1-Difluoroethane, or a similar derivative. The petitioner notes that these duster products are sold under a variety of brand names and are widely available to consumers in various retail stores and online.

The petitioner states that when 1,1-Difluoroethane used in duster aerosol products is inhaled from the can (commonly called huffing), intoxication occurs rapidly, yet is very short-lived (4 to 5 minutes). According to the petitioner, inhalation of this chemical is acutely dangerous and causes immediate brain damage and possible Sudden Sniffing Death (SSD). The petitioner states that 22 percent of first-time duster inhalers die, and the majority of all duster-inhalant deaths are attributed to SSD.

After reviewing all of the data, the petitioner concludes that: (1) Duster inhalation in the United States is a “chronic problem”; (2) individuals of all ages, genders, ethnicities, and education, and socioeconomic levels are involved in the use of duster as an inhalant and are dying in large numbers throughout the United States; (3) there is an “unreasonable” risk of physical injury and death due to the inhalant use of duster products; and (4) current interventions (legislation, retail practices, manufacturer design) have been ineffective in resolving this problem.

The petitioner requests that CPSC promulgate a mandatory safety standard that includes the following:

• A performance standard. Require manufacturers to add an aversive (bitterant other than Denatonium Benzoate) to all duster aerosol cans at a level of 30-40 ppm. The duster can injection technology must be improved to ensure that the bitterant actually gets into the can and will also appear in the spray at the designated level.

• Warning requirements.¹ Place a “much stronger” warning on the can. An example of this warning could be: “DANGER: DEATH—This product can kill you if you breathe it.”

¹ The petitioner also requests that CPSC promulgate a provision in a standard that requires retailers to monitor and limit individuals from continually purchasing multiple cans of duster from their stores within a designated (1 month) period. Under Section 7 of the CPSA, the Commission may issue only performance requirements and requirements for warnings or instructions. Therefore, the Commission lacks authority to require these additional provisions.

The Commission seeks comments concerning this petition.

The major factors the Commission considers in deciding whether to grant or deny a petition regarding a product include the following items:

(1) Whether the product involved presents an unreasonable risk of injury.

(2) Whether a rule is reasonably necessary to eliminate or reduce the risk of injury.

(3) Whether failure of the Commission to initiate the rulemaking proceeding requested would unreasonably expose the petitioner or other consumers to the risk of injury which the petitioner alleges is presented by the product. 16 CFR § 1051.9(a).

In considering these factors, the Commission will treat as an important component of each one the relative priority of the risk of injury associated with the product about which the petition has been filed and the Commission's resources available for rulemaking activities with respect to that risk of injury. 16 CFR 1051.9(b).

The CPSC Policy on Establishing Priorities for Commission Action, 16 CFR 1009.8, sets forth the criteria upon which Commission priorities are based.

The petition is available on the CPSC website https://www.cpsc.gov/s3fs-public/Petition-from-Families-United-Against-Inhalant-Abuse-FUAIA.pdf?EYYcWmPdktNDi5NiVt8Vixck_.Sz.Mnf or http://www.regulations.gov, under Docket No. CP-21-1, Supporting and Related Materials. Alternatively, interested parties may obtain a copy of the petition by writing or calling the Division of the Secretariat, Consumer Product Safety Commission, 4330 East West Highway, Bethesda, MD 20814; telephone (301) 504-6833.

Alberta E. Mills,
Secretary, U.S. Consumer Product Safety Commission.

[FR Doc. 2021-13337 Filed 6-28-21; 8:45 am]

BILLING CODE 6355-01-P